ENVIRONMENTAL PROTECTION AGENCY

[ER-FRL-9060-1]

Environmental Impact Statements; Notice of Availability

Responsible Agency: Office of Federal Activities, General Information 202-564-5632 or https://www.epa.gov/nepa.

Weekly receipt of Environmental Impact Statements (EIS)

Filed December 17, 2021 10 a.m. EST Through December 23, 2021 10 a.m. EST

Pursuant to 40 CFR 1506.9

Notice

Section 309(a) of the Clean Air Act requires that EPA make public its comments on EISs issued by other Federal agencies. EPA's comment letters on EISs are available at: https://cdxnodengn.epa.gov/cdx-enepa-public/action/eis/search.

Amended Notice

EIS No. 20210140, Draft, BLM, UT, WITHDRAWN—Pine Valley Water Supply Project, Contact: Brooklynn Cox 435-865-3073.

Revision to FR Notice Published 09/20/2021; Officially Withdrawn per request of the submitting agency.

Dated: December 23, 2021.
Cindy S. Barger,
Director, NEPA Compliance Division, Office of Federal Activities.

[FR Doc. 2021-28344 Filed 12-29-21; 8:45 am]

BILLING CODE 6560-50-P